DEPARTMENT OF AGRICULTURE

Forest Service

Black Hills National Forest, Mystic Ranger District, South Dakota, Calumet Project Area

AGENCY: Forest Service, USDA.

ACTION: Notice of intent to prepare an Environmental Impact Statement (EIS).

SUMMARY: The Forest Service will prepare an environmental impact statement on a proposal to use multiple vegetation treatments focused on reducing the threat to ecosystem components including forest resources from an existing insect and disease epidemic (mountain pine beetle), creating a landscape condition more adapted to fire and that reduces potential for high severity wildfire near at-risk communities and in the wildland-urban interface. The proposal is being planned for the 31,772 acre Calumet Project Area that includes about 27,617 acres of National Forest System land and about 4,155 acres of interspersed private land. The project area lies approximately six miles southwest of Rapid City, SD. Sheridan Lake is also located within the project area. This project will be conducted as an authorized project under Section 102 of the Healthy Forests Restoration Act of 2003 (HFRA). Actions proposed for the Calumet Project Area include the following:

• Thin and harvest approximately 14,954 acres of pine stands using a variety of methods to treat MPB infested stands, reduce the overall density of pine trees and create a mosaic of structural stages across the landscape. Both commercial and non-commercial sized trees would be removed utilizing multiple contracts including stewardship, timber sale, and service contracts.

• Remove conifers from hardwood stands (e.g., aspen, oak, and birch) and restore meadows on approximately 3,497 acres to provide habitat diversity and wildfire protection by enhancing natural fuel breaks.

• Reduce the amount of fuels that currently exists. Treatments could include (but are not limited to) lopping, chipping, crushing, piling and burning; creating fuel breaks along roads and adjacent to private property, particularly those properties with houses and subdivisions. Roadway treatments would improve access (ingress/egress) for the public, as well as emergency services in the event of a wildfire. Prescribed broadcast burning would also be allowed anywhere strategically practical within the project area, up to approximately 27,000 acres. The goals of prescribed fire are to reduce fuel loading and continuity to help protect private property and Forest resources, and to increase the quantity and quality of forage for big game and other wildlife resources. Annually, the Mystic Ranger District conducts approximately 2,000 to 4,000 acres of prescribed broadcast burning. These annual, accomplished acres are spread across the district and are split among multiple planning areas. Burning designated areas within the Calumet Project Area could take up to ten years to accomplish.

• Use of existing road templates, with less than five miles of new construction, would be required to carry out vegetation treatments.

DATES: Comments concerning the scope of the analysis would be most useful if received by 30-days following the date of this notice. The draft environmental impact statement is expected to be available for public review by February 2012 and the final environmental impact statement is expected to be completed by May 2012.

ADDRESSES: Send written comments to Jackie Groce, Acting District Ranger, Black Hills National Forest, Mystic Ranger District, Calumet Project Area, 8221 South Highway 16, Rapid City, South Dakota 57702. Telephone Number: (605) 343-1567. E-mail: comments-rocky-mountain-black-hills-mystic@fs.fed.us with “Calumet” as the subject. Electronic comments must be readable in Word, Rich Text, or PDF formats.

FOR FURTHER INFORMATION CONTACT: If you have any questions or need additional information, please contact Lou Conroy, Team Leader or Jackie Groce, Acting District Ranger, at the Mystic Ranger District office in Rapid City at (605) 343-1567.

SUPPLEMENTARY INFORMATION: The actions proposed are in direct response to management direction provided by the Black Hills National Forest Land and Resource Management Plan (Forest Plan). The site specific actions are designed, based on Forest Plan Standards and Guidelines, to move existing resource conditions in the Calumet Project Area toward meeting Forest Plan Goals and Objectives. The project area lies approximately six miles southwest of Rapid City, SD. Sheridan Lake is also located within the project area. Anticipated issues include: reducing MPB infestation and risk; protecting local communities, private and public lands, infrastructure and access from severe wildfire; associated fire and fuels hazard reduction needs in the wildland-urban interface; support or opposition to forest thinning using commercial timber harvest; impacts of vegetation treatment and multiple forest uses on wildlife habitat. The range of alternatives analyzed in the EIS is expected to be consistent with Sec. 104 of HFRA.

Purpose and Need for Action

The purpose of the Calumet Project is to:

• Moves existing land and resource conditions toward desired conditions as specified in the Forest Plan.

• Reduce the threat to ecosystem components including forest resources, from the existing insect and disease (mountain pine beetle) epidemic.

• Restore resource conditions to a healthy, resilient fire-adapted ecosystem.

• Help protect local communities and resources from catastrophic wildfire.

This project is focused on implementing management actions that move toward achieving:

• Desired conditions and objectives embodied in Goals 2, 3, 7, and 10 of the Forest Plan (as amended).

• Goals and objectives applicable to Forest Plan Management Area (MA) 3.7—Late Successional Forest Landscape (~780 acres); MA 5.1 Resource Production Emphasis (~5,621 acres); MA 5.4—Big Game Winter Range Emphasis (~18,259 acres); and MA 8.2 Developed Recreation Complex (~2,686 acres), that lie within Calumet Project Area, described in Chapter III of the Forest Plan (Phase II Amendment).

• Goals of the Healthy Forest Restoration Act (HFRA) of 2003 (HR 1904) and other National level initiatives and policy that provide procedural tools to hasten processes focused on reducing insects or disease on public and adjacent private lands, and reducing the probability and occurrence of severe wildfire in the fire adapted ecosystems, especially near at risk communities and in the wildland-urban interface. Moreover, it is appropriate that proposed actions be designed in consideration of the fuels hazard reduction management recommendations and guidelines provided by the Pennington County Community Wildfire Protection Plan of 2007.

Proposed Action

Proposed actions include the following:

• Thin and harvest approximately 14,954 acres of pine stands using a variety of methods to treat MPB infested stands, reduce the overall density of pine trees and create a mosaic of structural stages across the landscape. Both commercial and non-commercial sized trees would be removed utilizing multiple contracts including stewardship, timber sale, and service contracts.

• Remove conifers from hardwood stands (e.g., aspen, oak, and birch) and restore meadows on approximately 3,497 acres to provide habitat diversity and wildfire protection by enhancing natural fuel breaks.

• Reduce the amount of fuels that currently exists. Treatments could include (but are not limited to) lopping, chipping, crushing, piling and burning; creating fuel breaks along roads and adjacent to private property, particularly those properties with houses and subdivisions. Roadway treatments would improve access (ingress/egress) for the public, as well as emergency services in the event of a wildfire. Prescribed broadcast burning would also be allowed anywhere strategically practical within the project area, up to approximately 27,000 acres. The goals of prescribed fire are to reduce fuel loading and continuity to help protect private property and Forest resources, and to increase the quantity and quality of forage for big game and other wildlife resources. Annually, the Mystic Ranger District conducts approximately 2,000 to 4,000 acres of prescribed broadcast burning. These annual, accomplished acres are spread across the district and are split among multiple planning areas. Burning designated areas within the Calumet Project Area could take up to ten years to accomplish.

• Use of existing road templates, with less than five miles of new construction, would be required to carry out vegetation treatments.

Responsible Official

District Ranger, Mystic Ranger District, Black Hills National Forest, 8221 South Highway 16, Rapid City, South Dakota 57702.

Nature of Decision To Be Made

The decision to be made is whether or not to implement the proposed action or possible alternative at this time.

Scoping Process

Comments and input regarding the proposal will be received via direct mailing from the public, other groups, and agencies during the initial public comment period in October and November 2011. If you would like to be more involved, a public meeting is scheduled for Thursday, November 3, 2011, from 7 p.m. to 9 p.m. at the Mystic Ranger District Office, Rapid City, South Dakota. Comments submitted based on this NOI will be most useful if received within 30-days from the date of this notice. Response to the draft EIS will be sought from the interested public beginning in February 2012.

Comment Requested

This notice of intent provides information that the agency will prepare an environmental impact statement in response to public comment and feedback during the October and November 2011, scoping period. Comments received will assist the planning team to develop the mailing list for the draft EIS and help identify key issues and opportunities used to refine the proposal or possible alternative and mitigation measures. Comments on the DEIS will be requested during the 45-day comment period following the Notice of Availability, expected to be published in the Federal Register in February 2012 (See discussion below).

Early Notice of Importance of Public Participation in Subsequent Environmental Review

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Authority: 40 CFR 1501.7 and 1508.22; Forest Service Handbook 1909.15, Section 21.

Dated: October 17, 2011.
Robert J. Thompson,
Acting Deputy Forest Supervisor, Black Hills National Forest.

[FR Doc. 2011-27404 Filed 10-21-11; 8:45 am]

BILLING CODE 3410-11-P